DEPARTMENT OF COMMERCE

National Oceanic and Atmospheric Administration

[I.D. 051704G]

Endangered Species; File No. 1486

AGENCY: National Marine Fisheries Service (NMFS), National Oceanic and Atmospheric Administration (NOAA), Commerce.

ACTION: Receipt of application.

SUMMARY: Notice is hereby given that Harold M. Brundage, Environmental Research and Consulting, Inc., 112 Commons Court, Chadds Ford, PA 19317, has applied in due form for a permit to take shortnose sturgeon (Acipenser brevirostrum) for purposes of scientific research.

DATES: Written, telefaxed, or e-mail comments must be received on or before June 28, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1475.

FOR FURTHER INFORMATION CONTACT: Jennifer Jefferies or Amy Sloan, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the project is to conduct research and monitoring of shortnose sturgeon in the Delaware River/Estuary and the Chesapeake Bay. Researchers would characterize habitat use, relative abundance, juvenile recruitment, and temporal and spatial distributions of this species through the following research methodologies: capture via trawls and gillnets, measure, genetic sampling, PIT and floy T-bar tagging, and release of 970 juvenile and 2470 adult shortnose sturgeon throughout the Delaware River/Estuary and 30 juvenile and 100 adult shortnose sturgeon in the Chesapeake Bay, annually. In addition, a subset of 30 juveniles and 30 adults annually in the Delaware River/Estuary would also have internal ultrasonic transmitters implanted. An accidental mortality request of 25 juvenile and 25 adult fish is requested over the life of the permit. The researchers are requesting authorization for these activities for five years.

Dated: May 24, 2004.
Stephen L. Leathery,
Chief, Permits, Conservation and Education Division, Office of Protected Resources, National Marine Fisheries Service.

[FR Doc. 04-12055 Filed 5-26-04; 8:45 am]

BILLING CODE 3510-22-S